DEPARTMENT OF DEFENSE

Office of the Secretary

Department of Defense Military Family Readiness Council; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Department of Defense Military Family Readiness Council will take place.

DATES: This meeting is open to the public and will be held on Monday, December 4, 2017 from 1:00 p.m. to 3:00 p.m., Pentagon Library and Conference Center, Room B6.

ADDRESSES: 1155 Defense Pentagon PLC2 Pentagon Library and Conference Center, Room B6, Washington, DC 20301.

FOR FURTHER INFORMATION CONTACT: Dr. Randy Eltringham, (571) 372-5315 (Voice), (571) 372-0884 (Facsimile), or Ms. Melody McDonald (571) 372-0880 (Voice), OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. Web site: http://www.militaryonesource.mil/military-family-readiness-council. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the first meeting of the Council for Fiscal Year 2018 (FY2018). During this meeting, Council members will receive information about documented needs of military service and family members. They will also review and deliberate about two FY2018 focus areas: (1) Post Traumatic Stress Disorder (PTSD) and Traumatic Brain Injury (TBI) as Signature Injuries of Current War and how they impact military family readiness; and (2) Community Partnerships and Collaboratives which relate to disaster and emergency preparedness, plans, partnerships, training and support for military families.

Agenda

Welcome and Administrative Remarks

Review of Written Public Submissions

FY2018 Baseline Needs Assessment Data

Panel of Experts on PTSD, TBI and Community Support Services

Department of Defense Education Activity (DODEA) Hurricane Maria Response

Question and Answer Session

Closing Remarks

Note: Exact order may vary.

Meeting Accessibility: This meeting is open to the public, subject to the availability of space. Members of the public who are entering the Pentagon should arrive at the Pentagon Visitors Center waiting area (Pentagon Metro Entrance) at 12:00 p.m. on the day of the meeting to allow time to pass through security check points and to be escorted to the meeting location. Members of the public are requested to email their RSVP to the Council at osd.pentagon.ousd-p-r.mbx.family-readiness-council@mail.mil no later than 5:00 p.m. on Monday, November 20, 2017 to confirm seating availability and to request an escort or handicapped accessible transportation from the Pentagon Visitors Center to the Pentagon Library and Conference Center.

Written Statements: Interested persons may submit a written statement for review and consideration by the Council. Written statements must not be longer than two type-written pages and should address the following details: the issue, discussion, and a recommended course of action. Additionally, those who make submissions are requested to avoid including personal identifiable information (PII) such as names of adults and children, phone numbers, addresses, social security numbers, etc.). Supporting documentation may also be included, as needed, to establish the appropriate historical context and to provide any necessary background information. Written submissions should be sent to the Council mailbox at osd.pentagon.ousd-p-r.mbx.family-readiness-council@mail.mil at least five (5) business days prior to the date of this meeting. If the written statement is not received at least five (5) business days prior to the meeting, the Designated Federal Officer (DFO) for the Council may choose to postpone consideration of the statement until the next open meeting of the Council. The DFO will review all timely submissions and ensure submitted written statements are provided to all members of the Council prior to the meeting that is subject to this notice.

Dated: October 27, 2017.
Aaron Siegel,
Alternate OSD Federal Register Liaison Officer, Department of Defense.

[FR Doc. 2017-23848 Filed 11-1-17; 8:45 am]

BILLING CODE 5001-06-P